DEPARTMENT OF ENERGY

Federal Energy Regulatory Commission

[Docket No. CP01-438-000]

Northwest Pipeline Corporation; Notice of Availability of the Environmental Assessment for the Proposed Rockies Expansion Project

June 5, 2002.

The staff of the Federal Energy Regulatory Commission (FERC or Commission) has prepared an environmental assessment (EA) on the natural gas pipeline facilities proposed by Northwest Pipeline Corporation (Northwest) in the above-referenced docket.

The EA was prepared to satisfy the requirements of the National Environmental Policy Act. The staff concludes that approval of the proposed project (“Rockies Expansion Project”), with appropriate mitigating measures as recommended, would not constitute a major Federal action significantly affecting the quality of the human environment. The EA evaluates alternatives to the proposal, including system alternatives, route alternatives, and route variations.

The EA assesses the potential environmental effects of the construction and operation of the proposed facilities in Wyoming and Idaho. The purpose of the Rockies Expansion Project is to allow Northwest to expand its physical north flow capacity by constructing and operating six loops totaling about 91.1 miles as follows:

• Muddy Creek Loop: 30.6 miles of 30-inch-diameter pipeline in Sweetwater and Lincoln Counties, Wyoming;

• Kemmerer Loop: 15.5 miles of 30-inch-diameter pipeline in Lincoln County;

• Pegram Loop: 11.2 miles of 24-inch-diameter pipeline in Lincoln County;

• Soda Springs Loop: 19.6 miles of 24-inch-diameter pipeline in Bear Lake County, Idaho;

• Lava Loop: 9.4 miles of 24-inch-diameter pipeline in Caribou County, Idaho; and

• Pocatello Loop: 4.8 miles of 24-inch-diameter pipeline in Bannock County, Idaho.

Northwest also proposes to uprate or otherwise modify seven of its existing compressor stations as follows:

• Green River Compressor Station: compressor uprating of 970 horsepower (hp);

• Muddy Creek Compressor Station: compressor uprating of 2,117 hp;

• Pegram Compressor Station: compressor reconfiguration with no change in horsepower;

• Lava Compressor Station: compressor uprating and installation of a new compressor to increase 5,077 hp;

• Pocatello Compressor Station: compressor reconfiguration with no change in horsepower;

• Burley Compressor Station: replacement of three compressors with two new units to increase 9,400 hp, and installation of two portable units to augment compression by 2,660 hp when needed; and

• Buhl Compressor Station: compressor reconfiguration and installation of a new compressor to increase 4,700 hp.

The EA has been placed in the public files of the FERC. A limited number of copies of the EA are available for distribution and public inspection at: Federal Energy Regulatory Commission, Public Reference and Files Maintenance Branch, 888 First Street NE., Room 2A, Washington, DC 20426, (202) 208-1371.

Copies of the EA have been mailed to Federal, state, and local agencies; public interest groups; interested individuals; newspapers; libraries; and parties to this proceeding.

Any person wishing to comment on the EA may do so. To ensure consideration prior to a Commission decision on the proposal, it is important that we receive your comments before the date specified below. Please follow these instructions carefully to ensure that your comments are received in time and properly recorded:

• Send an original and two copies of your comments to: Magalie R. Salas, Secretary, Federal Energy Regulatory Commission, 888 First Street NE., Room 1A, Washington, DC 20426;

• Label one copy of the comments for the attention of Gas Branch 1, PJ-11.1;

• Reference Docket No. CP01-438-000; and

• Mail your comments so that they will be received in Washington, DC on or before July 5, 2002.

Comments may also be filed electronically via the internet in lieu of paper. See 18 CFR 385.2001(a)(1)(iii) and the instructions on the Commission's web site at http://www.ferc.gov under the “e-Filing” link and the link to the User's Guide. Before you can file comments you will need to create a free account which can be created by clicking on “Login to File” and then “New User Account.”

Comments will be considered by the Commission but will not serve to make the commentor a party to the proceeding. Any person seeking to be a party to the proceeding must file a motion to intervene pursuant to Rule 214 of the Commission's Rules of Practice and Procedures (18 CFR 385.214) ¹. Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the proposed project is available from the Commission's Office of External Affairs at (202) 208-1088 (direct line) or you can call the FERC operator at 1-800-847-8885 and ask for External Affairs. Information is also available on the FERC website (www.ferc.gov) using the “RIMS” link ² to information in this docket number. Click on the “RIMS” link, select “Docket #” from the RIMS Menu, and follow the instructions. For assistance with access to RIMS, the RIMS helpline can be reached at (202) 208-2222.

² The Commission is in the process of replacing RIMS and CIPS with the Federal Energy Regulatory Records Information System (FERRIS). If RIMS or CIPS cannot be found at the identified Commission web sites, FERRIS can be used to access information.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2222.

Magalie R. Salas,
Secretary.

[FR Doc. 02-14601 Filed 6-10-02; 8:45 am]

BILLING CODE 6717-01-P